DEPARTMENT OF COMMERCE

National Oceanic and Atmospheric Administration

RIN 0648-XG772

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing, overfished, or approaching an overfished condition. Atlantic herring and Georges Bank winter flounder are now approaching an overfished condition. South Atlantic blueline tilefish, Gulf of Mexico lane snapper, and Eastern Pacific Ocean yellowfin tuna are now subject to overfishing. Atlantic bigeye tuna is now overfished and remains subject to overfishing, Atlantic blue marlin and Pacific bluefin tuna remain both subject to overfishing and overfished. St. Matthew Island blue king crab is now overfished. NMFS, on behalf of the Secretary, notifies the appropriate regional fishery management council (Council) whenever it determines that overfishing is occurring, a stock is in an overfished condition, or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that Atlantic herring and Georges Bank winter flounder are approaching an overfished condition. The most recent assessment for Atlantic herring, finalized in 2018, indicates that the stock is approaching an overfished condition because the spawning stock biomass (SSB) is projected to be less than one half the amount of SSB needed to produce the maximum sustainable yield (MSY) (½SSBMSY) in 2018. The most recent assessment for Georges Bank winter flounder, finalized in 2017, indicates that the stock is approaching an overfished condition because the SSB is projected to be less than ½SSBMSY. This stock is projected to become overfished primarily due to below average recruitment. NMFS has informed the New England Fishery Management Council (New England Council) that, should either stock become overfished, based on realized catch, the New England Council must take steps under MSA sections 304(e)(3) and (4) to rebuild the stock.

NMFS has determined that South Atlantic blueline tilefish and Gulf of Mexico lane snapper are now subject to overfishing. The blueline tilefish determination is based on landings data from 2017. Landings data support a determination that this stock is subject to overfishing because 2017 landings were greater than the overfishing level (OFL). The Gulf of Mexico lane snapper determination is based on landings data from 2017. Landings data support a determination that this stock is subject to overfishing because 2017 landings were greater than the OFL. NMFS has notified the South Atlantic and the Gulf of Mexico Fishery Management Councils that they must take action to end overfishing on these stocks.

NMFS has further determined that the Eastern Pacific Ocean yellowfin tuna is now subject to overfishing. This determination is based on a 2018 assessment by the Inter-American Tropical Tuna Commission (IATTC) scientific staff, using data through 2017. Based on domestic status determination criteria, this stock is subject to overfishing because the fishing mortality rate (F) proxy is greater than the maximum fishing mortality threshold (MFMT). NMFS has determined that section 304(i) of the Magnuson-Stevens Act applies because the overfishing of Eastern Pacific yellowfin tuna stocks is due largely to excessive international fishing pressure and because it has not been determined that the management measures adopted by the IATTC in 2018 will end overfishing. NMFS has informed the Pacific Fishery Management Council of its obligations for domestic and international management under Magnuson-Stevens Act sections 304(i) to address domestic and international impacts.

NMFS has also determined that Atlantic bigeye tuna is now overfished and remains subject to overfishing. This determination is based on a 2018 assessment, using data through 2017. Based on the domestic status determination criteria for overfishing and overfished, the stock is overfished because SSB is calculated to be less than the MSST. The results indicate the stock is subject to overfishing because the F in 2017, compared to F at MSY, or FMSY, is greater than 1.0. NMFS continues to work with the International Commission for the Conservation of Atlantic Tunas (ICCAT) to develop and implement an international rebuilding program for this stock.

NMFS has determined that both Atlantic blue marlin and Pacific bluefin tuna remain subject to overfishing and overfished. The Atlantic blue marlin determination is based on a 2018 assessment, using data through 2016. Based on the domestic status determination criteria for overfishing and overfished, this stock remains subject to overfishing because F2016 compared to FMSY is greater than 1.0, and overfished because SSB is less than MSST. NMFS continues to work with ICCAT to develop and implement an effective international rebuilding program for Atlantic blue marlin. The Pacific bluefin tuna determination is based on a 2018 assessment conducted by the International Scientific Committee for Tuna and Tuna-like Species in the North Pacific Ocean, using data through 2016. Based on domestic status determination criteria, this stock remains subject to overfishing because F2015-2016 is greater than MFMT, and overfished because the SSB2016 is less than MSST. The Pacific Fishery Council has taken action to end domestic overfishing on this stock.

Finally, NMFS has determined that St. Matthew Island blue king crab is now overfished. This determination is based on a 2018 assessment, using survey data through 2018. The assessment supports a determination of overfished because the annual mature male biomass (MMB2018) estimate is less than the MSST for this stock. NMFS has notified the North Pacific Fishery Management Council that it must develop a rebuilding plan for this fishery.

Dated: May 1, 2019.
Jennifer M. Wallace,
Acting Director, Office of Sustainable Fisheries, National Marine Fisheries Service.

[FR Doc. 2019-09234 Filed 5-6-19; 8:45 am]

BILLING CODE P